FEDERAL HOUSING FINANCE AGENCY

[No. 2024-N-12]

Federal Advisory Committee on Affordable, Equitable, and Sustainable Housing; Postponement of Meeting

AGENCY: Federal Housing Finance Agency.

ACTION: Notice of meeting postponement.

SUMMARY: The Federal Housing Finance Agency (FHFA) is postponing the Advisory Committee on Affordable, Equitable, and Sustainable Housing (Committee) meeting originally scheduled for September 10 and 11, 2024. Future meeting dates will be announced in the Federal Register.

FOR FURTHER INFORMATION CONTACT: Paul Theruviparampil, Senior Policy Analyst, Office of Housing & Community Investment, Division of Housing Mission and Goals, (202) 649-3982, ACAESH@fhfa.gov; or Ted Wartell, Associate Director, Office of Housing & Community Investment, Division of Housing Mission and Goals, (202) 649-3157 (not toll-free numbers), Ted.Wartell@fhfa.gov, Federal Housing Finance Agency, Constitution Center, 400 Seventh Street SW, Washington, DC 20219. For TTY/TRS users with disabilities, dial 711 and ask to be connected to one of the contact numbers above.

SUPPLEMENTARY INFORMATION: The Committee meeting was originally announced in the Federal Register of August 14, 2024 (89 FR 66114). The rescheduled meeting will be held in the first quarter of 2025. Further details, including the specific date and location, will be provided in the coming months through a Federal Register notice.

Members of the public who wish to provide comments or obtain information about the Committee may contact the individuals listed above.

Sandra L. Thompson,
Director, Federal Housing Finance Agency.

[FR Doc. 2024-19453 Filed 8-28-24; 8:45 am]

BILLING CODE 8070-01-P